FEDERAL ELECTION COMMISSION

Sunshine Act Meeting

AGENCY: Federal Election Commission.

DATE AND TIME: Thursday, January 19, 2012 at 10 a.m.

PLACE: 999 E Street NW., Washington, DC (Ninth Floor).

STATUS: This meeting will be open to the public.

Items To Be Discussed

Correction and Approval of the Minutes for the Meeting of January 12, 2012.

Draft Advisory Opinion 2011-25: Atlas Air Worldwide Holdings, Inc.

Draft Advisory Opinion 2011-26: Martin Freeman.

Draft Advisory Opinion 2011-27: New Mexico Voices for Children.

Draft Advisory Opinion 2011-28: Western Representation PAC.

Management and Administrative Matters.

Individuals who plan to attend and require special assistance, such as sign language interpretation or other reasonable accommodations, should contact Shawn Woodhead Werth, Secretary, at (202) 694-1040, at least 72 hours prior to the meeting date.

PERSON TO CONTACT FOR INFORMATION: Judith Ingram, Press Officer, Telephone: (202) 694-1220.

Shawn Woodhead Werth,
Secretary of the Commission.

[FR Doc. 2012-881 Filed 1-12-12; 4:15 pm]

BILLING CODE 6715-01-P